ENVIRONMENTAL PROTECTION AGENCY

[FRL-7238-2]

Agency Information Collection Activities: Submission for OMB Review, Comment Request, National Emissions Standards for Hazardous Air Pollutants: (NESHAPs) Radionuclides

AGENCY: Environmental Protection Agency (EPA).

ACTION: Notice.

SUMMARY: In compliance with the Paperwork Reduction Act (44 U.S.C. 3501 et seq.), this document announces that the following Information Collection Request (ICR) has been forwarded to the Office of Management and Budget (OMB) for review and approval: National Emission Standards for Hazardous Air Pollutants (NESHAPs): Radionuclides. OMB Control Number 2060-0191, expiration date is June 30, 2002. The ICR describes the nature of the information collection and its expected burden and cost, where appropriate, it includes the actual data collection instrument.

DATES: Comments must be submitted on or before July 26, 2002.

ADDRESSES: Send comments, referencing EPA ICR No. 1100.11 and OMB Control No. 2060-0191, to the following addresses: Susan Auby, U.S. Environmental Protection Agency, Collection Strategies Division (Mail Code 2822T), 1200 Pennsylvania Avenue, NW., Washington, DC 20460-0001; and to Office of Information and Regulatory Affairs, Office of Management and Budget, Attention: Desk Officer for EPA, 725 17th Street, NW., Washington, DC 20503.

FOR FURTHER INFORMATION CONTACT: For a copy of the ICR, contact Susan Auby at EPA by phone at (202) 566-1672, by e-mail at auby.susan@epa.gov or download off the Internet at http://www.epa.gov/icr and refer to EPA ICR No. 1100.11. For technical questions about the ICR contact Eleanor Thornton-Jones at (202) 564-9773 or by e-mail at thornton.eleanord@epa.gov.

SUPPLEMENTARY INFORMATION: Title: National Emission Standards for Hazardous Air Pollutants (NESHAPs): Radionuclides, OMB Control Number 2060-0191, expiration date June 30, 2002. This is a request for extension of a currently approved collection.

Abstract: On December 15, 1989, pursuant to section 112 of the Clean Air Act as amended in 1977 (42 U.S.C. 1857), the Environmental Protection Agency (EPA) promulgated NESHAPs to control radionuclide emissions from several source categories. The regulations were published in 54 FR 51653, and are codified at 40 CFR subparts B, K, R, and W.

Information collected is used by EPA to ensure that public health continues to be protected from the hazards of airborne radionuclides by compliance with these standards. If the information were not collected, it is unlikely that a violation of these standards would be identified and, thus, there would be no corrective action initiated to bring the facilities back into compliance. Compliance is demonstrated through emission testing and/or dose calculation. All facilities are required to calculate, monitor, and maintain their records for 5 years. The rationale for the 5 year recordkeeping requirement is from the Code of Federal Regulations (CFR), 40 CFR part 61, Section 61.95. In some cases, they also report their results to EPA.

An agency may not conduct or sponsor, and a person is not required to respond to, a collection of information unless it displays a currently valid OMB control number. The OMB control numbers for EPA's regulations are listed in 40 CFR part 9 and 48 CFR Chapter 15. The Federal Register document required under 5 CFR 1320.8(d), soliciting comments on this collection of information was published on March 11, 2002; no comments were received.

Burden Statement: The annual public reporting and recordkeeping burden for this collection of information is estimated to average 94 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Owners and Operators of Elemental Phosphorous, Phosphogypsum Stacks, Underground Uranium Mines, and Uranium Mill Tailings Piles Facilities.

Estimated Number of Respondents: 62.

Frequency of Response: Annually.

Estimated Total Annual Hour Burden: 5,812.

Estimated Total Annualized Capital, O&M Cost Burden: $231,350.

Send comments on the Agency's need for this information, the accuracy of the provided burden estimates, and any suggested methods for minimizing respondent burden, including through the use of automated collection techniques to the addresses listed above. Please refer to EPA ICR No. 1100.11 and OMB Control No. 2060-0191 in any correspondence.

Dated: June 19, 2002.
Oscar Morales,
Director, Collection Strategies Division.

[FR Doc. 02-16132 Filed 6-25-02; 8:45 am]

BILLING CODE 6560-50-P